FARM CREDIT ADMINISTRATION

12 CFR Part 630

RIN 3052-AC40

Disclosure to Investors in System-Wide and Consolidated Bank Debt Obligations of the Farm Credit System; Effective Date

AGENCY: Farm Credit Administration.

ACTION: Notice of effective date.

SUMMARY: The Farm Credit Administration (FCA or Agency), through the FCA Board (Board), issued a direct final rule with opportunity for comment under part 630 on November 15, 2007 (72 FR 64129) amending our regulation on the external auditor's assessment of internal control over financial reporting concerning the System-wide annual report to investors. The opportunity for comment expired on December 17, 2007. The FCA received no comments and therefore, the direct final rule becomes effective without change. In accordance with 12 U.S.C. 2252, the effective date of the final rule is 30 days from the date of publication in the Federal Register during which either or both Houses of Congress are in session. Based on the records of the sessions of Congress, the effective date of the regulations is January 31, 2008.

DATES: Effective Date: The regulation amending 12 CFR part 630 published on November 15, 2007 (72 FR 64129) is effective January 31, 2008.

FOR FURTHER INFORMATION CONTACT:

Wade Wynn, Policy Analyst, Office of Regulatory Policy, Farm Credit Administration, McLean, Virginia 22102-5090, (703) 883-4414, TTY (703) 883-4434

or

Laura McFarland, Senior Attorney, Office of General Counsel, Farm Credit Administration, McLean, Virginia 22102-5090, (703) 883-4020, TTY (703) 883-4020.

Authority: (12 U.S.C. 2252(a)(9) and (10)).

Dated: January 31, 2008.
Roland E. Smith,
Secretary, Farm Credit Administration Board.

[FR Doc. E8-2381 Filed 2-7-08; 8:45 am]

BILLING CODE 6705-01-P